DEPARTMENT OF AGRICULTURE

Submission for OMB Review; Comment Request

August 26, 2019.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by September 30, 2019 will be considered. Written comments should be addressed to: Desk Officer for Agriculture, Office of Information and Regulatory Affairs, Office of Management and Budget (OMB), New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602. Copies of the submission(s) may be obtained by calling (202) 720-8681. An agency may not conduct or sponsor a collection of information unless the collection of information displays a currently valid OMB control number and the agency informs potential persons who are to respond to the collection of information that such persons are not required to respond to the collection of information unless it displays a currently valid OMB control number.

Forest Service

Title: Secure Rural Schools Act.

OMB Control Number: 0596-0220.

Summary of Collection: The Secure Rural Schools and Community Self-Determination Act of 2000 (the Act) reauthorized in Public Law 110-343, requires the appropriate official of a county that receives funds under Title III of the Act to submit to the Secretary of Agriculture or the Secretary of the Interior, as appropriate, an annual certification that the funds have been expended for the uses authorized under section 302(a) of the Act. Participating counties will also report amounts not obligated by September 30 of the previous year. The information will be collected annually in the form of conventional correspondence such as a letter and, at the respondent's option, attached tables or similar graphic display. At the respondent's discretion, the information may be submitted by hard copy and/or electronically scanned and included as an attachment to electronic mail.

Need and Use of the Information: The information collected will identify the participating county and the year in which the expenditures were made and will include amounts not obligated by September 30 of the previous year. Information includes the name, title, and signature of the official certifying that the expenditures were for uses authorized under section 302(a) of the Act, and the date of the certification. Information will also be collected including the amount of funds expended in the applicable year and the uses for which the amount were expended referencing the authorized categories; (1) carry out activities under the Firewise Communities program; (2) reimburse the participating county for emergency services performed on Federal land and paid for by the participating county; and (3) to develop community wildfire protection plans in coordination with the appropriate Secretary or designee. The information will be used to verify that participating counties have certified that funds were expended as authorized in the Act.

Description of Respondents: State, Local or Tribal Government.

Number of Respondents: 360.

Frequency of Responses: Reporting: Annually.

Total Burden Hours: 8,640.

Kimble Brown,
Departmental Information Collection Clearance Officer.

[FR Doc. 2019-18717 Filed 8-28-19; 8:45 am]

BILLING CODE 3411-15-P